DEPARTMENT OF HEALTH AND HUMAN SERVICES

Centers for Disease Control and Prevention

National Center for Injury Prevention and Control/Initial Review Group

In accordance with section 10(a)(2) of the Federal Advisory Committee Act (Pub. L. 92-463), the Centers for Disease Control and Prevention (CDC) announces the following meeting of the aforementioned review group:

Name: National Center for Injury Prevention and Control/Initial Review Group, (NCIPC/IRG).

Time and Date: 11 a.m.-12 noon, July 10, 2008 (closed).

Place: Teleconference.

Status: Portions of the meetings will be closed to the public in accordance with provisions set forth in Section 552b(c) (4) and (6), Title 5, U.S.C., and the Determination of the Director, Management Analysis and Services Office, CDC, pursuant to Section 10(d) of Pub. L. 92-463.

Purpose: This group is charged with providing advice and guidance to the Secretary, Department of Health and Human Services, and the Director, CDC, concerning the scientific and technical merit of grant and cooperative agreement applications received from academic institutions and other public and private profit and nonprofit organizations, including State and local government agencies, to conduct research on environmental exposures to hazardous substances.

Matters to be Discussed: The meeting will include the review, discussion, and evaluation of cooperative agreement applications submitted in response to Fiscal Year 2008 Requests for Applications related to the following individual research announcement: TS-08-003. This funding opportunity announcement solicits from the Association of Minority Health Professions Schools, a grant application to conduct substance-specific research to address research needs identified by the Agency for Toxic Substances and Disease Registry for priority hazardous substances and to apply these findings to positively affect public health and environmental medicine in low-income and/or minority communities.

Agenda items are subject to change as priorities dictate.

Contact Person for More Information: J Felix Rogers, PhD., M.P.H., Telephone (770) 488-4334, NCIPC/ERPO, CDC, 4770 Buford Highway, NE., M/S F62, Atlanta, Georgia 30341-3724.

The Director, Management Analysis and Services Office has been delegated the authority to sign Federal Register notices pertaining to announcements of meetings and other committee management activities for both CDC and the Agency for Toxic Substances and Disease Registry.

Dated: June 10, 2008.
Elaine L. Baker,
Director, Management Analysis and Services Office, Centers for Disease Control and Prevention.

[FR Doc. E8-13729 Filed 6-17-08; 8:45 am]

BILLING CODE 4163-18-P